DEPARTMENT OF TRANSPORTATION

Federal Aviation Administration

[Docket No. FAA-2003-14374]

Rotor Manufacturing Induced Anomaly Database

AGENCY: Federal Aviation Administration (FAA), DOT.

ACTION: Notice of proposed order designating voluntarily submitted information as protected from disclosure.

SUMMARY: The FAA proposes to designate the information and data submitted to them to create the Rotor Manufacturing Induced Anomaly Database (known as the “ROMAN Database”) as protected from disclosure under 14 CFR part 193. This proposed designation would require the FAA to protect the information from disclosure under the Freedom of Information Act (5 U.S.C. 552) and other laws. The FAA wants to encourage production approval holders and suppliers that manufacture high energy rotating gas turbine engine components to voluntarily submit information for inclusion into the ROMAN database.

DATES: Comments must be received on or before March 13, 2003.

ADDRESSES: Send or deliver all comments on the proposed Order to: Docket Management System (DMS), US Department of Transportation, Plaza Level Room 401, 400 Seventh Street, SW., Washington, DC 20590-0001.

FOR FURTHER INFORMATION CONTACT: Dan Kerman, Aviation Safety Inspector-Manufacturing Process Specialist, Manufacturing Inspection Office, ANE-180, Engine and Propeller Directorate, Federal Aviation Administration, New England Region, 12 New England Executive Park, Burlington, MA 01802, telephone 781-238-7195; fax (781) 238-7898.

SUPPLEMENTARY INFORMATION:

Comments Invited

Interested persons are invited to comment on the proposed Order listed in this notice by submitting such written data, views, or arguments as they desire to the Docket Management System (DMS), US Department of Transportation, Plaza Level Room 401, 400 Seventh Street, SW., Washington, DC 20590-0001. You should submit two copies of your comments, identifying the docket number “FAA-2003-14374” at the beginning of your comments. If you wish to receive confirmation that your comments were received, include a stamped, self-addressed postcard with your comments. Comments may also be submitted through the DMS Internet address at http://dms.dot.gov.

Comments received on the proposed Order may be examined, before and after the comment closing date, in person, in the Docket Office between 9 a.m. and 5 p.m., Monday through Friday, except Federal holidays. The Docket Office is on the Plaza Level of the NASSIF Building, Department of Transportation at the above address. Comments received may also be examined on the Internet at http://dms.dot.gov. The Associate Administrator for Regulation and Certification will consider all comments received on or before the closing date before issuing the final Order.

Background

Under 49 U.S.C. 40123, Congress authorized the FAA to establish rules that it could designate as protected from disclosure to the public certain voluntarily provided safety and security information. In so doing, Congress sought to encourage persons with knowledge of safety and security issues to voluntarily provide that information and data to the FAA. The aviation industry had expressed reluctance to voluntarily provide the FAA with safety and security information out of concern that the agency would be forced to make those submissions public in response to requests made under the Freedom of Information Act (FOIA) (5 U.S.C. 552) and other laws.

In 14 CFR part 193 (66 FR 33792, June 25, 2001) the FAA established the requirements for designating as protected from mandatory disclosure certain voluntarily submitted information. Before the information can be protected from disclosure however, the FAA must issue an order finding that the information meets the criteria established in 14 CFR part 193. Once the FAA issues an order designating information as protected under 14 CFR part 193, that information will not be disclosed in response to requests made under the FOIA or other laws except as provided for in 14 CFR 193.9. Thus, this proposed order is issued under the provisions of 14 CFR 193.11, which sets out the “notice procedure” for designating information as protected.

Description of the Information Sharing Program

The Aerospace Industries Association (AIA) established an international team of representatives from production approval holders (PAHs), and companies, that supply critical rotating parts to those PAHs to investigate the causal factors that have led to manufacturing induced anomalies in high energy rotating parts of commercial jet engines. The team's charter is to develop a database containing manufacturing induced anomalies in critical rotating parts for aircraft engines, including information on design data that could impact the life-limits of those parts.

Rotating parts, such as disks, in aircraft engines are exposed to extreme temperatures, pressures, and rotational forces. Under those conditions, any anomaly in the material matrix of the part could serve as a site for a crack to initiate. Rotating parts failures resulting from cracks originating from such anomalies have in the past caused aircraft accidents resulting in substantial damage and loss of life. With this database, the team's hopes are to outline recommendations for establishing best manufacturing practices for the fabrication of high-energy rotating engine components. This knowledge will also enable the entire engine industry to identify the precursors to unsafe conditions and to react appropriately in a safe and timely fashion. The report may also be used as a means of identifying shortfalls in existing FAA rules, standards, and policies regarding aircraft engine production and design approvals and for the continuing airworthiness oversight of engine designs currently in service.

The FAA supports this effort as part of the Safer Skies Program, and has agreed to serve as the clearinghouse for the database information submitted by PAHs and suppliers. If implemented, the ROMAN database would be created in a double blind format from data submitted by engine PAHs and suppliers consisting of a very sensitive and proprietary nature. PAHs and suppliers will not share this data with the FAA voluntarily, unless each submitter can do so anonymously, and has assurances that the data they submit would not be disclosed to the public, or to other submitters. With this data, it would be possible for the FAA to identify trends by analyzing adverse experiences on a fleet-wide basis. Such comparisons are not possible today because there are no participants willing to share such sensitive data with other members of industry, or the FAA, without assurances of protection from disclosure. However, the team members are willing to submit in a de-identified form, to allow the FAA and others on the team access to the data, only if the FAA provides assurances that the data will be protected from disclosure to the public. The proposed order protecting the submitted data under 14 CFR part 193 will provide those assurances. By compiling all submissions into a single database, each participant would benefit from defining best manufacturing practices, identifying adverse trends, and improved production efficiency. The flying public would benefit from improved reliability of aircraft engines and a reduction of the severity of the consequences of anomalies regarding integrity of the engine by, for example, the implementation of damage tolerance design methodologies.

The data will be submitted to the FAA anonymously by the participants. These submissions, initially, will include historical data from past years. In the future, the updating of the database will include only recently derived data. The FAA will secure a contractor that will input the data into a computerized database, and that database will be available for review by the participants and the FAA for establishing industry wide cause and corrective action. The computer database will be double blind and thus will not include the names of the participants. The FAA anticipates that in many cases the participants will use the information to identify and carry out improvements in their production and design techniques without the FAA requiring such action. When appropriate, the FAA will change its policies, standards, and rules to implement improvements based on this data.

Summary of the ROMAN Database Voluntary Information Sharing Program

(1) Who would participate: Production approval holders (PAHs) for aircraft engines and aircraft engine components, and suppliers of rotating parts to those PAHs who are members of the Rotor Manufacturing (ROMAN) team.

(2) What voluntarily provided information would be protected from disclosure under this proposed designation: Information on manufacturing-induced anomalies, including material attributes and debits, as well as root causes and corrective actions. This information would be provided for those manufacturing anomalies that would impact the integrity of critical rotating parts in aircraft engines.

(3) How persons would participate: Participation would be through the ROMAN team. Those manufacturers, PAHs, and suppliers of rotating parts will submit their information to a private contractor for inclusion into, and management of the ROMAN database.

(4) Duration of this information sharing program: This program would continue in effect until withdrawn by the FAA.

Proposed Findings Under 14 CFR Part 193

(1) The information will be provided voluntarily. The FAA finds that the information will be provided voluntarily, and any participant may withdraw from the program at any time. Note that the information provided by the participants is beyond the scope of that required by the type certification mandatory reporting rules, and that the participants may withdraw from the program at any time. The ROMAN database will provide PAHs and suppliers of critical rotating parts with an opportunity to benefit from each other's adverse experiences and lessons learned that is not available without the protection of 14 CFR part 193. The identification of trends and the establishment of the shortfalls with the base manufacturing processes as a result of the ROMAN database will provide economic benefit to the submitters.

(2) The information is safety or security related. The FAA finds that the information is safety related. The ROMAN database will contain comprehensive information on manufacturing-induced anomalies on critical rotating engine components. These anomalies are of the kind that has been known to initiate disk fracture and fatigue failure resulting in aircraft accidents. Also, important background information will be used to relate those anomalies to specific manufacturing methods and materials. The database will be instrumental in identifying manufacturing process and material shortfalls that will assist the industry and the FAA in improving the integrity and safety of rotating parts of jet engines.

(3) The disclosure of the information would inhibit the voluntary provisions of that type of information. The FAA finds that the disclosure of the information would inhibit persons from voluntarily providing of that type of information. The information submitted for the ROMAN database would be highly sensitive and commercially valuable information. One of the reasons why such a database does not already exist is the reluctance of each participant to share its data and lessons learned with the FAA as well as each other without the assurances of protection from public disclosure.

(4) The receipt of this type of information aids in fulfilling the FAA's safety and security responsibilities. The receipt of information for the ROMAN database will aid the FAA in improving overall engine rotor integrity and decreasing the occurrence and severity of engine rotor failures. Reducing the number of aircraft accidents attributable to the failure of rotating parts in engines is an important part of the FAA's Safer Skies Program. The ROMAN database provides a way to identify manufacturing tends and precursors before they result in anomalies that might cause rotating part failures and aircraft accidents.

(5) Withholding such information from disclosure, under the circumstances provided in this part, is consistent with the FAA's safety and security responsibilities. Withholding the information submitted to the FAA to form the ROMAN database from public disclosure is consistent with the FAA's safety responsibilities. The ROMAN database will provide a key method to improving safety in air commerce by identifying manufacturing trends that may contribute to the presence of anomalies in the rotating parts in aircraft engines that could potentially cause the part to fail. Identifying these trends will lead to improve manufacturing processes as well as design practices to eliminate and account for the anomalies in future production and the removal of parts already in service from the actual failure occurs.

The FAA will withhold and release information submitted under this program as specified in 14 CFR 193.9 and 193.11.

The FAA may release activity reports that include the number of PAHs and suppliers who are participating and the number of manufacturing trends identified as a result. Activity reports will not include the names of the PAH's and suppliers who participate, or numbers or details of the anomalies that have been disclosed under this program.

(6) Summary of how the FAA will distinguish information protected under this program from information the FAA receives from other sources. The FAA routinely receives data and information from aircraft engine PAHs as part of its regulatory oversight of approved engine designs. The data received from the ROMAN database will be maintained separately by having the ROMAN database managed by a contractor. The ROMAN database will include only information received under this program. Information that is received under this program, and reports generated from the ROMAN database, will be clearly marked as having been received under this program as follows:

“WARNING: The Information in this Document Is Protected from Disclosure under 14 CFR part 193. This Information May Not Be Released Except With Written Permission of the Associate Administrator for Regulation and Certification”

Proposed Designation

Accordingly, the Federal Aviation Administration hereby proposes to designate the information submitted under this program to be protected under 49 U.S.C. 40123 and 14 CFR part 193.

Authority: 49 U.S.C. 40123; and 14 CFR part 193.

Dated: Issued in Washington, DC, on February 4, 2003.
Nicholas A. Sabatini,
Associate Administrator for Regulation and Certification.

[FR Doc. 03-3274 Filed 2-7-03; 8:45 am]

BILLING CODE 4910-13-M